DEPARTMENT OF STATE

[Public Notice 6209]

Overseas Citizens Services Records

ACTION: Notice.

SUMMARY: Notice is hereby given that the Department of State proposes to amend the Overseas Citizens Services Records pursuant to the provisions of the Privacy Act of 1974, as amended (5 U.S.C. 522a(r)), and Office of Management and Budget Circular No. A-130, Appendix I. The Department's report was filed with the Office of Management and Budget on 17 April 2007.

SUPPLEMENTARY INFORMATION: It is proposed that the existing system will retain the name “Overseas Citizens Services Records.” It is also proposed that the altered system description will include revisions and/or additions to the Bureau of Consular Affairs responsibility to provide assistance to U.S. citizens overseas and reflect the Department's new role as designated Central Authority under the Convention on Protection of Children and Cooperation in Respect of Intercountry Adoption Convention and its implementing legislation, the Intercountry Adoption Act of 2000.

Any persons interested in commenting on this amendment of the Overseas Citizens Services Records may do so by submitting comments in writing to Margaret P. Grafeld, Director, Office of Information Programs and Services, A/ISS/IPS, U.S. Department of State, SA-2, Washington, DC 20522-8001. This amendment to the Overseas Citizens Services Records will be effective 40 days from the date of publication, unless comments are received that result in a contrary determination. The amendment will read as follows.

Dated: April 15, 2008.
Rajkumar Chellaraj,
Assistant Secretary for the Bureau of Administration, Department of State.

STATE-05

System Name:

Overseas Citizens Services Records.

Security classification:

Unclassified and Classified.

System location:

Department of State, Overseas Citizens Services, 2100 Pennsylvania Avenue, NW., Washington, DC 20037 and overseas at U.S. embassies, U.S. consulates general and consulates. (A list of overseas posts is available from the Bureau of Consular Affairs, Room 4800, Department of State, Washington, DC 20520-4818.)

Categories of individuals covered by the system:

Individuals assisted by the Office of Overseas Citizens Services or by consular officers overseas, including persons, generally U.S. citizens, who:

(a) Seek to establish claims to U.S. citizenship or inquire concerning possible loss of U.S. citizenship;

(b) Apply for U.S. passports here and abroad or Consular Reports of Birth or Death Abroad;

(c) Register as U.S. citizens living or traveling abroad;

(d) Seek to be and/or are evacuated to the United States or a third country as a result of a civil disorder, natural disaster or similar emergency in an overseas locale;

(e) Initiate requests relating to another U.S. citizen's welfare and whereabouts or are themselves the subjects of such requests;

(f) Seek to receive and/or receive financial assistance or are repatriated;

(g) Seek to receive and/or receive emergency medical assistance;

(h) Are detained or arrested overseas;

(i) Seek to receive and/or receive notarial or authentication services or judicial assistance;

(j) Die overseas or are involved in the disposition of a decedent's personal estate;

(k) Have or assert an interest in property (real or personal) abroad;

(l) Are living overseas and claim or receive federal benefits;

(m) Have sought or received benefits by virtue of having been held hostage overseas or by virtue of their relationship with a person held hostage overseas;

(n) Vote in U.S. federal and/or state elections while overseas;

(o) Register with the U.S. Selective Service System while living overseas;

(p) Are American Seamen inquiring about seamen consular services;

(q) Are involved in an international child custody dispute, possible child abuse case, or child support enforcement proceeding;

(r) Seek to adopt and/or adopt a child from a foreign country;

(s) Participate in the intercountry adoption process;

(t) Are children who are eligible for intercountry adoption and/or are adopted, and either immigrate to or emigrate from the United States, whether or not such adoption is covered by the Hague Convention on Protection of Children and Co-operation in Respect of Intercountry Adoption, Treaty Doc. 105-51, signed May 29, 1993 (Hague Intercountry Adoption Convention) and its implementing legislation (Intercountry Adoption Act of 2000 (IAA), (42 U.S.C. 14901 et seq.)) and regulations;

(u) Seek to provide, have provided, and/or do provide intercountry adoption services, in connection with an adoption case whether or not such case is covered by the Hague Intercountry Adoption Convention and the IAA;

(v) Contribute to, or are a subject of, a complaint in the Complaint Registry created pursuant to 22 CFR 96.68 et seq.;

(w) Seek to receive and/or receive information or assistance regarding an alleged or possible international child abduction;

(x) Are or may be a victim of a crime abroad;

(y) Seek to receive and/or receive information or assistance regarding travel abroad;

(z) Seek to take and/or take temporary refugee abroad;

(aa) Seek assistance from embassies or consulates overseas or from Overseas Citizens Services.

Authority for maintenance of the system:

(a) 8 U.S.C. 1104 (Powers and Duties of the Secretary of State);

(b) 22 U.S.C. 3904 (Functions of the Foreign Service, including protection of U.S. citizens in foreign countries under the Vienna Convention on Consular Relations and assistance to other agencies);

(c) 22 U.S.C. 1731 (Protection of naturalized U.S. citizens in foreign countries);

(d) 22 U.S.C. 211a, 212, 213, 217a, 218 (Passport application and issuance);

(e) 22 U.S.C. 2705 (Preparation of Consular Reports of Birth Abroad);

(f) 8 U.S.C. 1501 (Adjudication of possible loss of nationality);

(g) 22 U.S.C. 2671(b)(2)(B) (Repatriation loan for destitute U.S. citizens abroad);

(h) 22 U.S.C. 2670(j) (Provision of emergency medical, dietary and other assistance);

(i) 22 U.S.C. 2151n-1 (Assistance to arrested citizens) (Repealed, but applicable to past records);

(j) 42 U.S.C. 1973ff-1973ff-6 (Overseas absentee voting);

(k) 42 U.S.C. 402 (Social Security benefits payments);

(l) Sec. 599C of Public Law 101-513, 104 Stat. 1979, as amended (Claims to benefits by virtue of hostage status);

(m) 50 U.S.C. App. 453, 454, Presidential Proclamation No. 4771, July 2, 1980 as amended by Presidential Proclamation 7275, February 22, 2000 (Selective Service registration);

(n) 22 U.S.C. 5501-5513 (Aviation disaster and security assistance abroad; mandatory availability of airline passengers manifest);

(o) 22 U.S.C. 4196; (22 U.S.C. 4195, repealed, but applicable to past records) (Official notification of death of U.S. citizens in foreign countries; transmission of inventory of effects);

(p) 22 U.S.C. 2715b (notification of next of kin of death of U.S. citizens in foreign countries);

(q) 22 U.S.C. 4197 (Assistance with disposition of estates of U.S. citizens upon death in a foreign country);

(r) 22 U.S.C. 4193, 4194; 22 U.S.C. 4205-4207; 46 U.S.C. 10318 (Merchant seamen protection and relief);

(s) 22 U.S.C. 4193 (Receiving protests or declarations of U.S. citizen passengers, merchants in foreign ports);

(t) 46 U.S.C. 10701-10705 (Responsibility for deceased seamen and their effects);

(u) 22 U.S.C. 2715a (Responsibility to inform victims and their families regarding crimes against U.S. citizens abroad);

(v) 22 U.S.C. 4215, 4221 (Administration of oaths, affidavits, and other notarial acts);

(w) 28 U.S.C. 1740, 1741 (Authentication of documents);

(x) 28 U.S.C. 1781-1783 (Judicial Assistance to U.S. and foreign courts and litigants);

(y) 42 U.S.C. 14901-14954; Intercountry Adoption Act of 2000, (Assistance with intercountry adoptions under the Hague Intercountry Adoption Convention, maintenance of related records);

(z) 42 U.S.C. 11601-11610, International Child Abduction Remedies Act (Assistance to applicants in the location and return of children wrongfully removed or retained or for securing effective exercise of rights of access);

(aa) 22 U.S.C. 4802 (overseas evacuations).

Categories of records in the system:

Applications for passports and registration as U.S. citizens*; Consular Reports of Birth Abroad*; Certificates of Loss of Nationality of the United States*; Reports of Death* and Reports of Presumed Death; emergency medical and dietary loan applications; repatriation loan applications; applications for benefits for hostages and their families; seamen services records; welfare and whereabouts records; records related to federal benefits claims, property claims, arrest cases, matters or inquiries (“cases”), estate cases, evacuation cases, prisoner transfer cases, refuge cases, victims of crime cases, exit ban cases, judicial assistance cases, international adoption cases (including those covered under the Hague Adoption Convention and the Intercountry Adoption Act of 2000), and child custody cases (including those covered by the Hague Abduction Convention and the International Child Abduction Remedies Act).

These records may also include completed “Local American Citizens Skills/Resources Survey” forms; registration cards; interview worksheets; case notes; fingerprint cards; documents of identity; passenger manifests; and various related forms not otherwise stated. These records may further include communications to and from U.S. embassies, U.S. consulates, and consular agencies; federal, state, and local government agencies; members of Congress; officials of foreign governments; U.S. and foreign courts; U.S. and foreign nongovernmental organizations, including disaster or emergency relief organizations such as the International Red Cross, Red Crescent and others; and the subject(s) of the records, their relatives, and other interested parties. Records marked with an asterisk (*) are maintained, stored, and preserved as Passport Records, STATE-26.

Purpose:

The information in the Overseas Citizens Services Records System is used primarily in the adjudication of claims relating to acquisition or loss of U.S. citizenship; the protection and assistance of individuals abroad including death cases, loan and destitution cases, welfare and whereabouts cases, prisoner (including prisoner transfer) cases; assistance to individuals involved in international adoption cases and in child custody cases; assistance to individuals involved in child support enforcement proceedings; oversight of accredited and approved adoption service providers and the designated accrediting entities of adoption service providers; and the resolution of property, estate, and benefits claims arising under the pertinent statutes.

Routine uses for records maintained in the system, including categories of users and purposes of such uses:

The principal users of this information outside of the Department of State are: The Social Security Administration, Office of Personnel Management, Veterans' Administration, Railroad Retirement Board, Department of Labor, and Department of the Treasury in connection with administration of federal benefits to U.S. citizens abroad; Federal Aviation Administration and National Transportation Safety Board in connection with U.S. citizens traveling abroad and aviation accidents; Department of Commerce, U.S. Maritime Administration and U.S. Coast Guard in connection with international commerce, shipping and seamen; Department of Health and Human Services, U.S. Public Health Service, and Centers for Disease Control in connection with international travel and health issues and repatriation of U.S. citizens abroad; Department of Justice and the Drug Enforcement Administration in connection with the arrest or detention of U.S. citizens overseas and prisoner transfer agreements; Foreign Claims Settlement Commission in connection with the adjudication of claims of U.S. citizens against foreign governments; Selective Service in connection with Armed Services registration requirements of U.S. citizens; Department of Defense, Department of Homeland Security, Department of Justice, and the Secret Service in connection with coordinating evacuations abroad and processing of immigration and naturalization matters; Department of Homeland Security in connection with intercountry adoptions; Internal Revenue Service for the current addresses of specifically identified taxpayers in connection with pending actions to collect taxes accrued, examinations, and/or other related tax activities and for the names and current location of taxpayers who are held hostage abroad in terrorist and non-terrorist related incidents; federal and state courts in connection with judicial and related matters; foreign and domestic airlines in connection with assisting U.S. citizens in emergency situations, including aviation disasters; funeral homes in connection with the death abroad of U.S. citizens; members of Congress when the information is requested on behalf of the individual to whom access is authorized under this notice; shipping companies when the information is maintained pursuant to the Department's responsibilities under Titles 22 and 46 of the U.S. Code; immediate family when the information is for the benefit of the subject; private U.S. citizen “wardens” designated by U.S. embassies and U.S. consulates general and consulates to serve as channels of communication with other Americans in the local community, primarily in evacuations and other emergency situations; foreign-based organizations of private U.S. citizens to assist U.S. citizens in evacuations and other emergency situations; foreign and U.S. nongovernmental organizations, including disaster or emergency relief organizations such as the International Red Cross, Red Crescent and others, to the media and relevant Web sites that maintain lists of U.S. citizens who are known to be found safe from and/or are reported missing as a result of a natural or other disaster, including political upheaval, abroad; foreign governments, embassies and consulates when the request for information is made pursuant to customary international practice; attorneys when the individual to whom the information pertains is the client of the attorney making the request, or when the attorney is acting on behalf of some other individual to whom access is authorized under these rules; private citizens whenever the individual to whom the information pertains has authorized the Department in writing to release that information; State governments, including state law enforcement agencies, state prosecutors, judicial staff, departments of human services and licensing authorities, in connection with adoptions, law enforcement, and health, safety, welfare and related matters, including child abduction cases, custody disputes and notification of next of kin; individuals and entities identified by state governments to assist in intercountry adoption and abduction cases, including adoption service providers, Bar Associations and legal aid services; local police and social service agencies in connection with law enforcement and health, safety and welfare and related matters, including child abduction cases, custody disputes, cases of runaways and abandoned or neglected children, and notification of next of kin; INTERPOL and other law enforcement agencies in connection with law enforcement issues and health, safety and welfare and related matters, including child adoption and abduction cases, custody disputes and notification of next of kin; National Center for Missing and Exploited Children in connection with child abduction cases; central and public authorities of, and bodies duly accredited in, member and nonmember countries of the Hague International Child Abduction Convention in connection with specific child abduction cases and systemic issues; central and public authorities of, and bodies duly accredited in, member and nonmember countries of the Hague Intercountry Adoption Convention in connection with intercountry adoptions, both specific cases and systemic issues; organizations designated by the Department of State as Accrediting Entities in accordance with the IAA in connection with accreditation or approval of adoption service providers; adoption service providers in connection with the health, safety and welfare of participants in intercountry adoptions, diplomatic inquiries regarding compliance with the Hague Intercountry Adoption Convention and Complaint Registry related matters; and biological and adoptive parents, guardians, and children involved in intercountry adoption and abduction cases.

This information may also be released on a need-to-know basis to other government agencies having statutory or other lawful authority to maintain such information. Information is made available to routine users only for an established routine use.

The routine uses for Passport Records, STATE-26, apply to applications for passports and registration as U.S. citizens, Consular Reports of Birth Abroad, Certificates of Loss of Nationality of the United States, Reports of Death, and related documentation.

Also see the Department of State Prefatory Statement of Routine Uses published in the Federal Register.

Policies and practices for storing, retrieving, accessing, retaining and disposing of records in the system:

Storage:

Electronic media, hard copy.

Retrievability:

By individual name, birth date, or passport number, or other personal identifier if available.

Safeguards:

All Department of State employees and contractors with authorized access, have undergone a thorough personnel security background investigation. All users are given information system security awareness training, including the procedures for handling Sensitive But Unclassified (SBU) and personally identifiable information, before being allowed to access the Department of State SBU network. Annual refresher training is mandatory. Before being granted access to the system of records, a user must first be granted access to SBU network. Access is only granted to users with Diplomatic Security-approved clearances. Users must sign a Password Receipt Controls Form.

Access to the Department of State building and the annexes is controlled by security guards, and admission is limited to those individuals possessing a valid identification card or individuals under proper escort. All records containing personal information are maintained in secured filing cabinets or in restricted areas, access to which is limited to authorized personnel. Access to electronic files is password-protected and under the direct supervision of the system manager. When a user is added to a particular database role, his/her access is limited to only the data set and functions necessary.

For authentication, the system of records requires passwords that are known only to the users. The password policy used is mandated by 12 FAM. The system manager has the capability of printing audit trails of access from the computer media, thereby permitting regular and ad hoc monitoring of computer usage.

The system of records structures access privileges to reflect the separation of key duties that end-users perform within the functions the application supports. Access privileges are consistent with the need-to-know, separation of duties, and supervisory requirements established for manual processes.

When it is determined that a user no longer needs access, the user account will be disabled.

Data transmitted to and from post to domestic systems are protected by the bulk encryption hardware components inherent within SBU network that encrypt the data from posts to the Consular Consolidated Database.

Automated vulnerability scanning of the system of records is conducted overseas and domestically to ensure that the servers and workstations that process, store or transact records are “locked-down.”

Retention and disposal:

These records will be maintained until they become inactive, at which time they will be destroyed or retired in accordance with published record disposition schedules of the Department of State and as approved by the National Archives and Records Administration. More specific information may be obtained by writing to the Director, Office of Information Programs and Services, A/IPS/IPS, SA-2, Department of State, Washington, DC 20522-8001.

System manager and address:

Deputy Assistant Secretary for Overseas Citizens Services; Room 4800, Department of State, 2201 C Street, NW., Washington, DC 20520-4818. At overseas locations, the onsite system manager is the Chief of the Consular Section or another State Department employee with responsibility for consular services as provided by the post in question.

Record access and amendment procedures:

Individuals seeking to determine whether the Office of Overseas Citizens Services has records pertaining to them should write to the Director, Office of Information Programs and Services, A/ISS/IPS, SA-2, Department of State, Washington, DC 20522-8001. The individual must specify that he or she wishes the records of the Overseas Citizens Services to be checked and request notification of whether the system of Overseas Citizens Services records contains a record pertaining to him or her. At a minimum, the individual should include: Name; date and place of birth; current mailing address and zip code; signature; a brief description of the circumstances that caused the creation of the record (including the city and/or country and the approximate dates) which gives the individual cause to believe that Overseas Citizens Services has records pertaining to him or her. In accord with E.O. 9397, providing a Social Security number is optional, but may assist the Department in locating relevant records. [ A request to search Overseas Citizens Services Records, STATE-05, will be treated also as a request to search Passport Records, STATE-26, when it pertains to passport, registration, citizenship, birth or death records transferred from STATE-05 to STATE-26.]

Individuals who wish to gain access to or to amend records pertaining to themselves should write to the Director, Office of Information Programs and Services (address above).

Record source categories:

These records contain information that is primarily obtained from the individual who is the subject of the records. Information may also be obtained from federal, state, and local government entities and nongovernmental authorities in accordance with a routine use.

System exempted from certain provisions of the act:

In accord with Department of State's rules published in the Federal Register (see 22 CFR 171.36), certain records contained within this system of records are exempted from 5 U.S.C. 552a(c)(3), (d), (e)(1), (e)(4)(G), (e)(4)(H), (e)(4)(I) and (f), when: Required to be kept secret in the interest of national defense and foreign policy; necessary to prevent individuals that are the subject of investigation from frustrating the investigatory process, to ensure the proper functioning and integrity of law enforcement activities, to prevent disclosure of investigative techniques, to maintain the confidence of foreign governments in the integrity of the procedures under which privileged or confidential information may be provided, and to fulfill commitments made to sources to protect their identities and the confidentiality of information and to avoid endangering these sources and law enforcement personnel. Disclosure would impair the Department's effective performance in carrying out its lawful protective responsibilities under 18 U.S.C. 3056 and 22 U.S.C. 4802.

[FR Doc. E8-9737 Filed 5-1-08; 8:45 am]

BILLING CODE 4710-24-P